DEPARTMENT OF COMMERCE

Submission for OMB Review; Comment Request

The Department of Commerce will submit to the Office of Management and Budget (OMB) for clearance the following proposal for collection of information under the provisions of the Paperwork Reduction Act (44 U.S.C. chapter 35).

Agency: International Trade Administration.

Title: Survey of International Air Travelers (SIAT).

Form Number(s): None.

OMB Control Number: 0625-0227.

Type of Request: Regular submission (extension and revision of a currently approved information collection).

Burden Hours: 24,850.

Number of Respondents: 99,400.

Average Hours per Response: 15 minutes.

Needs and Uses: The Survey of International Air Travelers (Survey) program, administered by the Office of Travel and Tourism Industries (OTTI) of the International Trade Administration provides source data required to: (1) Estimate international travel and passenger fare exports, imports and the trade balance for the United States, (2) comply with the U.S. Travel Promotion Act of 2009 (Pub. L. 111-145), collect, analyze and report information to the Corporation for Travel Promotion (CTP), and support the National Export Initiative (NEI) to double U.S. exports, (3) comply with the 1945, 1961, 1981, and 1996 travel and tourism related acts to collect and publish comprehensive international travel and tourism statistics and other marketing information, and (4) support the continuation of the Travel & Tourism Satellite Accounts for the United States, which provide the only spending and employment figures for the industry. The Survey program contains the core data that is analyzed and communicated by OTTI with other government agencies, associations and businesses that share the same objective of increasing U.S. international travel exports.

The Survey assists OTTI in assessing the economic impact of international travel on state and local economies, providing visitation estimates, key market intelligence, and identifying traveler and trip characteristics. The U.S. Department of Commerce assists travel industry enterprises to increase international travel and passenger fare exports for the country as well as outbound travel on U.S. carriers. The Survey program provides the only available estimates of nonresident visitation to the states and cities within the United States, as well as U.S. resident travel abroad.

The Survey also assists OTTI in producing in-depth statistical reports, fact sheets and briefings on economic factors and policy issues affecting U.S. industries. With the Survey statistical data not replicable by private sector trade associations or by private firms, Federal agencies, Congress and international organizations rely on these statistic-based tools, as do American businesses, state and local governments, and news organizations.

A new survey instrument (questionnaire) (English version plus its translations into eleven foreign languages) has been developed that reflects input from over 70 respondents, including segments of the travel industry (airlines, travel associations, destinations, lodging); consultants; financial firms; educational institutions; and U.S. government agencies. Also, this new Survey questionnaire reflects changes in various questions relating to trip purpose; payment methods; booking/information sources; additional package components, health care/vaccinations/travel insurance information; additional transportation used responses; assessment of the visitor's experience; intentions for further travel to the United States; and ethnicity/race. Survey questions relating to a traveler's general impression of their airline carrier, flight connections, several airline rating attributes, baggage delivery wait time, selected activities, number of trips in the last five years, and whether they had personal safety concerns were eliminated from the new Survey questionnaire.

Affected Public: Individuals or households: International travelers departing the United States 18 years or older which includes U.S. and non-U.S. residents for all countries except Canada.

Frequency: Monthly.

Respondent's Obligation: Voluntary.

OMB Desk Officer: Wendy Liberante, (202) 395-3647.

Copies of the above information collection proposal can be obtained by calling or writing Diana Hynek, Departmental Paperwork Clearance Officer, (202) 482-0266, Department of Commerce, Room 6616, 14th and Constitution Avenue NW., Washington, DC 20230 (or via the Internet at dHynek@doc.gov).

Written comments and recommendations for the proposed information collection should be sent within 30 days of publication of this notice to Wendy Liberante, OMB Desk Officer, Fax number (202) 395-7285 or via the Internet at Wendy_L._Liberante@omb.eop.gov.

Dated: December 21, 2011.
Gwellnar Banks,
Management Analyst, Office of the Chief Information Officer.

[FR Doc. 2011-33071 Filed 12-23-11; 8:45 am]

BILLING CODE 3510-DS-P